INTERNATIONAL TRADE COMMISSION

[Investigation 332-439]

U.S.-Singapore Free Trade Agreement: Advice Concerning the Probable Economic Effect

AGENCY: International Trade Commission.

ACTION: Institution of investigation and scheduling of public hearing.

EFFECTIVE DATE: February 19, 2002.

SUMMARY: Following receipt of a request on February 11, 2002, from the United States Trade Representative (USTR), the Commission instituted investigation No. 332-439, U.S.-Singapore Free Trade Agreement: Advice Concerning the Probable Economic Effect, under section 332(g) of the Tariff Act of 1930 (19 U.S.C. 1332(g)).

FOR FURTHER INFORMATION CONTACT: Industry-specific information may be obtained from John Davitt, Project Leader (202-205-3407 or jdavitt@usitc.gov) or Chris Johnson, Deputy Project Leader (202-205-3488 or cjohnson@usitc.gov), Office of Industries, U.S. International Trade Commission, Washington, DC, 20436. For information on the legal aspects of this investigation, contact William Gearhart of the Office of the General Counsel (202-205-3091). The media should contact Peg O'Laughlin of the Office of External Relations (202-205-1819). Hearing impaired individuals are advised that information on this matter can be obtained by contacting the TDD terminal on (202) 205-1810.

Background

As requested by USTR, the Commission will provide advice as to the probable economic effects of providing duty-free treatment for imports of products of Singapore on industries in the United States producing like or directly competitive articles, and on consumers. The analysis will consider each article in chapters 1 through 97 of the Harmonized Tariff Schedule of the United States for which U.S. tariffs will remain after the United States fully implements its Uruguay Round tariff commitments. The advice will be based on the 2002 Harmonized Tariff System nomenclature and trade data for the year 2000. The USTR requested the Commission to provide the advice in a confidential report, by June 11, 2002, if possible. In his letter to the Commission, the USTR stated that “* * *, the United States and the Republic of Singapore are engaged in negotiations to reach a comprehensive bilateral free trade agreement (FTA). Among other things, the agreement will eliminate tariffs on substantially all trade in goods between the United States and Singapore.” He noted that a previous U.S. International Trade Commission report, U.S.-Singapore Free Trade Agreement: Potential Trade and Economic Effects, Inv. No. 332-422 (January 2001) had served as a useful tool in helping formulate U.S. negotiating positions and in conducting an environmental review of the proposed agreement and that the additional advice he is now requesting will assist them in carrying out tariff negotiations with Singapore.

Public Hearing

A public hearing in connection with the investigation will be held at the U.S. International Trade Commission Building, 500 E Street SW., Washington, DC, beginning at 9:30 a.m. on April 25, 2002. All persons shall have the right to appear, by counsel or in person, to present information and to be heard. Requests to appear at the public hearing should be filed with the Secretary, United States International Trade Commission, 500 E Street SW., Washington, DC 20436, no later than 5:15 p.m., April 16, 2002. Any prehearing briefs (original and 14 copies) should be filed not later than 5:15 p.m., April 18, 2002; the deadline for filing post-hearing briefs or statements is 5:15 p.m., May 9, 2002. In the event that, as of the close of business on April 16, 2002, no witnesses are scheduled to appear at the hearing, the hearing will be canceled. Any person interested in attending the hearing as an observer or non-participant may call the Secretary of the Commission (202-205-1806) after April 16, 2002, to determine whether the hearing will be held.

Written Submissions

In lieu of or in addition to participating in the hearing, interested parties are invited to submit written statements (original and 14 copies) concerning the matters to be addressed by the Commission in its report on this investigation. Commercial or financial information that a submitter desires the Commission to treat as confidential must be submitted on separate sheets of paper, each clearly marked “Confidential Business Information” at the top. All submissions requesting confidential treatment must conform with the requirements of section 201.6 of the Commission's Rules of Practice and Procedure (19 CFR 201.6). All written submissions, except for confidential business information, will be made available in the Office of the Secretary of the Commission for inspection by interested parties. The Commission may include some or all of the confidential business information submitted by interested parties in its report to the USTR. To be assured of consideration by the Commission, written statements relating to the Commission's report should be submitted to the Commission at the earliest practical date and should be received no later than the close of business on May 9, 2002. All submissions should be addressed to the Secretary, United States International Trade Commission, 500 E Street SW., Washington, DC 20436. The Commission's rules do not authorize filing submissions with the Secretary by facsimile or electronic means.

Persons with mobility impairments who will need special assistance in gaining access to the Commission should contact the Office of the Secretary at 202-205-2000. General information concerning the Commission may also be obtained by accessing its Internet server (http://www.usitc.gov). The public record for this investigation may be viewed on the Commission's electronic docket (EDIS-ON-LINE) at http://dockets.usitc.gov/eol/public.

List of Subjects

Singapore, tariffs, and imports.

By order of the Commission.
Issued: February 20, 2002.
Marilyn R. Abbott,
Acting Secretary.

[FR Doc. 02-4497 Filed 2-25-02; 8:45 am]

BILLING CODE 7020-02-P